DEPARTMENT OF AGRICULTURE

Rural Housing Service

Section 538 Guaranteed Rural Rental Housing Program (GRRHP) Demonstration Program for Fiscal Year 2007

AGENCY: Rural Housing Service, USDA.

ACTION: Notice; correction.

SUMMARY: The Rural Housing Service (RHS) is correcting a notice published June 11, 2007 (72 FR 32070-32071). This action is taken to extend the application obligation date from August 31, 2007 to September 28, 2007. This correction is to ensure that all applications that meet program criteria and have responded accordingly, will be considered in the Demonstration Program.

Accordingly, the Notice published on June 11, 2007 (72 FR 32070-32071), is corrected as follows:

On page 32071, in the first column, second paragraph, under the heading “Demonstration Program Selection Process,” the second sentence is corrected to read as follows: “In the event there are not enough qualified requests for selection into the Demonstration Program to utilize all the available Demonstration Program set-aside funds of approximately $10 million, then the selection process for any remaining funds will be conducted on September 28, 2007, and will include all applications obligated from October 1, 2006 to September 28, 2007.” All applicants will be notified of the selection results no later than 15 business days from the date of selection.

Dated: August 24, 2007.
Russell T. Davis,
Administrator, Rural Housing Service.

[FR Doc. E7-17219 Filed 8-30-07; 8:45 am]

BILLING CODE 3410-XV-P